DEPARTMENT OF HEALTH AND HUMAN SERVICES

Administration for Children and Families

Proposed Information Collection Activity; Comment Request

Title: Responding to Intimate Violence in Relationship programs (RIViR)

OMB No.: New Collection

Description: The Administration for Children and Families (ACF), U.S. Department of Health and Human Services (HHS) is proposing a data collection as part of the “Responding to Intimate Violence in Relationship programs” (RIViR) study. This notice addresses testing of intimate partner violence (IPV) and teen dating violence (TDV) screener/protocols, to be conducted with approximately 1,200 participants from approximately six Healthy Marriage and Relationship Education (HMRE) grantees funded by the Office of Family Assistance (OFA).

There is little consensus on how HMRE programs should address IPV or TDV in their programs. To date, no IPV or TDV screening tools have been empirically tested among HMRE program participants. The objective of the proposed data collection is to test and validate IPV and TDV screening instruments among HMRE program participants. Findings from this data collection will be used to develop practical, responsive guidance on IPV and TDV screening and surrounding protocols for HMRE programs.

Data collection will entail testing eight screening instruments: Six closed-ended screening instruments (three for IPV, three for TDV), and two open-ended instruments (one for IPV, one for TDV). It is anticipated that each participant will engage in four rounds of data collection, one round for each IPV or TDV instrument, at least two weeks apart. Data collection is expected to occur from Winter 2016/2017 through Spring 2017.

Respondents: HMRE grantee program participants: 600 Youth (approximately ages 14-18) will participate in the TDV screener testing and 600 adults (ages 18 and older) will participate in the IPV screener testing.

Annual Burden Estimates
Instrument | Total/annual number of respondents | Number of responses per respondent | Average burden hours per response | Annual burden hours
Adult Closed-ended IPV Screening Tool #1 | 600 | 1 | .25 | 150
Adult Closed-ended IPV Screening Tool #2 | 600 | 1 | .25 | 150
Adult Closed-ended IPV Screening Tool #3 | 600 | 1 | .25 | 150
Adult Open-ended IPV Screening Tool | 600 | 1 | .5 | 300
Youth Closed-ended TDV Screening Tool #1 | 600 | 1 | .25 | 150
Youth Closed-ended TDV Screening Tool #2 | 600 | 1 | .25 | 150
Youth Closed-ended TDV Screening Tool #3 | 600 | 1 | .25 | 150
Youth Open-ended TDV Screening Tool | 600 | 1 | .5 | 300

Estimated Total Annual Burden Hours: 1,500.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Certifying Officer.

[FR Doc. 2016-08363 Filed 4-11-16; 8:45 am]

BILLING CODE 4184-73-P